CONSUMER PRODUCT SAFETY COMMISSION

Sunshine Act Meeting

Federal Register Citation of Previous Announcement: Vol. 66, No. 80, Wednesday, April 25, 2001, page 20790

Previously Announced Time and Date of Meeting: 10:00 a.m., June 7, 2001.

Changes in Meeting: No requests were received from outside participants, therefore, the Commission Hearing on Agenda and Priorities for FY 2003 is canceled.

Agenda: For a recorded message containing the latest agenda information, call (301) 504-0709.

Contact Person for Additional Information: Sadye E. Dunn, Office of the Secretary, 4330 East West Highway., Bethesda, MD 20207 (301) 504-0800.

Dated: May 25, 2001.
Sadye E. Dunn,
Secretary.

[FR Doc. 01-13695 Filed 5-25-01; 2:37 pm]

BILLING CODE 6355-01-M